SOCIAL SECURITY ADMINISTRATION

Statement of Organization, Functions and Delegations of Authority

This statement amends Part S of the Statement of the Organization, Functions and Delegations of Authority which covers the Social Security Administration (SSA). Chapter S2 covers the Deputy Commissioner, Operations. Notice is given that Subchapter S2R, the Office of Central Operations is being amended to reflect the establishment of the Center for Security and Integrity S2RC6 under the Associate Commissioner for Central Operations. The new material and changes are as follows:

Section S2R.10 The Office of Central Operations—(Organization):

C. The Immediate Office of the Associate Commissioner, Office of Central Operations (OCO) (S2R).

4. The Assistant Associate Commissioner for Management and Operations Support (S2RC):

Establish:

f. The Center for Security and Integrity (S2RC6).

Section S2R.20 The Office of Central Operations—(Functions):

C. The Immediate Office of the Associate Commissioner, OCO (S2R).

2. The Assistant Associate Commissioner for International Operations (S2RE).

a. The Division of International Operations (DIO) (S2RE1):

Delete the eleventh sentence, i.e., “It designs and conducts validation and other special studies to foster integrity in the Social Security program overseas.”

Section TGB.10 The Office of Research, Evaluation, and Statistics—(Organization):

Retitle:

D. The “Publications Staff” to the “Division of Information Resources” (TGBB).

E. The “Division of Program Analysis” to the “Division of Program Studies” (TGBC).

H. The “Division of Retirement, Survivors, Disability Insurance Research Statistics” to the “Division of RSDI Statistics and Analysis” (TGBH).

I. The “Division of SSI Analysis/Management Statistical Support” to the “Division of SSI Statistics and Analysis” (TGBJ).

J. The “Disability Research Staff” to the “Division of Disability Research” (TGBK).

Establish:

K. The Division of Policy Evaluation (TGBL).

Section TGB.20 The Office of Research, Evaluation, and Statistics—(Functions):

Amend in its entirety:

A. The Associate Commissioner for Research, Evaluation, and Statistics (TGB) is directly responsible to the Deputy Commissioner, Policy, for carrying out ORES' mission, and providing general supervision to the major components of ORES.

B. The Deputy Associate Commissioner for Research, Evaluation, and Statistics (TGB) assists the Associate Commissioner in carrying out his/her responsibilities and performs other duties the Associate Commissioner may prescribe.

C. The Immediate Office of the Associate Commissioner for Research, Evaluation, and Statistics (TGBA) provides the Associate Commissioner and Deputy Associate Commissioner with staff assistance on the full range of their responsibilities and helps coordinate the activities of ORES components.

D. The Division of Information Resources (TGBB).

1. Organizes, presents, and disseminates research and statistical studies in both printed and electronic forms.

2. Maintains the Office of Policy information resource facilities; i.e., library and website.

E. The Division of Program Studies (TGBC).

1. Plans, conducts, and publishes the results of cross-national data collection and research on social security programs worldwide.

2. Monitors both public and private-sector programs within the United States and presents results in a number of recurrent publications.

F. The Division of Economic Research (TGBE).

1. Plans, directs, and executes issue-oriented research to provide information about relationships between Social Security programs and the economy.

2. Interprets changing demographic and economic trends as they relate to the broad field of economic security and to overall economic and social policy.

3. Studies such major areas as: Social Security financing, economic impacts of Social Security, income maintenance, effects of Social Security on lifetime income redistribution, alternative measures of income adequacy, and labor market and retirement behavior.

G. The Division of Earnings Statistics and Analysis (TGBG).

1. Prepares statistical data pertaining to employment, earnings, and employer classification for public release and for SSA publications. Analyzes these data with emphasis on demographic, economic, social, and program characteristics. These data are used to support policy formulation and evaluation activities within SSA; to inform the public about employment and earnings; and to serve as the basis for research by other Federal, State, and local government agencies, universities, and private research organizations.

2. Manages a comprehensive program for the construction of datasets from survey data and extracts from SSA administrative records for SSA components, other government agencies, and individual researchers, both government and private. Plans and executes interagency and reimbursable agreements to facilitate the sharing of data.

H. The Division of RSDI Statistics and Analysis (TGBH).

1. Prepares statistical data pertaining to Old-Age, Survivors, and Disability Insurance (OASDI) beneficiary and payment provisions of the Social Security Act. Analyzes these data with emphasis on demographic, economic, social, and program characteristics. The statistics and analyses are used to support policy formulation and evaluation activities within SSA; to inform the public about the OASDI program; and to serve as the basis for research by other Federal, State, and local government agencies, universities, and private research organizations.

I. The Division of SSI Statistics and Analysis (TGBJ).

1. Plans, coordinates, and directs the preparation of Supplemental Security Income provisions of title XVI of the Social Security Act. Analyzes these data with emphasis on demographic, economic, social, and program characteristics. These data are used to support program and legislative planning; serve as important sources for program evaluation, research, and administrative information within SSA; and serve as the basis for research by other Federal, State, and local government agencies, universities, and private research organizations.

J. The Division of Disability Research (TGBK).

1. Plans, directs and implements a wide range of studies and analyses, utilizing data from surveys and administrative records, on the national disabled population, disability applicants, and disability beneficiaries.

2. Develops research in response to disability program issues.

3. Provides a wide variety of management statistical services to SSA operating and policy components.

K. The Division of Policy Evaluation (TGBL).

1. Ensures that SSA's policy evaluation research is technically appropriate, professionally sound, policy relevant, and timely.

2. Plans, directs, and implements a wide variety of research and policy evaluation activities centered upon programs, policies, potential policy changes and the impact on current and future beneficiaries and programs costs.

Dated: August 14, 2000.
Paul D. Barnes,
Deputy Commissioner for Human Resources.

[FR Doc. 00-22754 Filed 9-5-00; 8:45 am]

BILLING CODE 4191-02-P